DEPARTMENT OF TRANSPORTATION

Federal Aviation Administration

Notice of Approval of Finding of No Significant Impact (FONSI) on a Short Form Environmental Assessment (EA); Greater Peoria Regional Airport, Peoria, IL

AGENCY: Federal Aviation Administration (FAA), DOT.

ACTION: Notice of approval of documents.

SUMMARY: The Federal Aviation Administration (FAA) is issuing this notice to advise the public of the approval of a Finding of No Significant Impact (FONSI) on an Environmental Assessment for proposed Federal actions at Greater Peoria Airport, Peoria, Illinois. The FONSI specifies that the proposed federal actions and local development projects are consistent with existing environmental policies and objectives as set forth in the National Environmental Policy Act of 1969 and will not significantly affect the quality of the environment.

A description of the proposed Federal actions is : (a) To issue an environmental finding to allow approval of the Airport Layout Plan (ALP) for the development items listed below; (b) Approval of the Airport Layout Plan (ALP) for the development items listed below; and (c) Establish eligibility of the Greater Peoria Airport Authority to compete for Federal funding for the development projects depicted on the Airport Layout Plan.

The specific item in the local airport development project is to acquire approximately 34 acres of land in fee simple title off the Runway 31 end.

Copies of the environmental decision and the Short Form EA are available for public information review during regular business hours at the following locations:

1. Greater Peoria Regional Airport, 6100 West Everett McKinley Dirksen Parkway, Peoria, Illinois 61607.

2. Division of Aeronautics-Illinois Department of Transportation, One Langhorne Bond Drive, Capital Airport, Springfield, Illinois 62707.

3. Chicago Airports District Office, Room 320, Federal Aviation Administration, 2300 East Devon Avenue, Des Plaines, Illinois 60018.

FOR FURTHER INFORMATION CONTACT: Amy Hanson, Environmental Specialist, Federal Aviation Administration, Chicago Airports District Office, Room 320, 2300 East Devon Avenue, Des Plaines, Illinois 60018. Ms. Hanson can be contacted at (847) 294-7354 (voice), (847) 294-7046 (facsimile) or by e-mail at amy.hanson@faa.gov.

Dated: Issued in Des Plaines, Illinois on October 25, 2007.
Jack Delaney,
Acting Manager, Chicago Airports District Office, FAA, Great Lakes Region.

[FR Doc. 07-5722 Filed 11-16-07; 8:45 am]

BILLING CODE 4910-13-M